DEPARTMENT OF STATE

[Public Notice 5880]

State-59 Refugee Case Records

SUMMARY: Notice is hereby given that the Department of State proposes to alter an existing system of records, STATE-59, pursuant to the provisions of the Privacy Act of 1974, as amended (5 U.S.C.(r)), and Office of Management and Budget Circular No. A-130, Appendix I. The Department's report was filed with the Office of Management and Budget on July 10, 2007.

It is proposed that the current system will retain the name “Refugee Case Records.” It is also proposed that due to the expanded scope of the current system, the altered system description will include revisions and/or additions to the following sections: System Location; Categories of Individuals covered by the System; Authority for Maintenance of the System; and Routine Uses of Records Maintained in the System, Including Categories of Users and Purposes of such Uses. Changes to the existing system description are proposed in order to reflect more accurately the Bureau of Population, Refugees, and Migration record-keeping system, the Authority establishing its existence and responsibilities, and the uses and users of the system.

Any persons interested in commenting on the altered system of records may do so by submitting comments in writing to Margaret P. Grafeld, Director; Office of Information Programs and Services; A/ISS/IPS; Department of State, SA-2; Washington, DC 20522-8100. This system of records will be effective 40 days from the date of publication, unless we receive comments that will result in a contrary determination.

The altered system description, “Refugee Case Records, State-59,” will read as set forth below.

Dated: July 9, 2007.
Raj Chellaraj,
Assistant Secretary for the Bureau of Administration,Department of State.

STATE-59

System name:

Refugee Case Records.

Security classification:

Unclassified.

System location:

(1) Refugee processing posts, that is, designated U.S. embassies, consulates and/or offices of overseas processing entities (agencies under cooperative agreement with the Department of State that assist in the processing of applicants); (2) the Refugee Processing Center, 1401 Wilson Blvd., Arlington, VA 22209. The U.S. Department of State may change processing locations as needed. A list of refugee processing posts is available from the Office of Admissions, Bureau of Population, Refugees, and Migration, Room 5824, Department of State, Washington, DC 20520.

Categories of individuals covered by the system:

Individuals who have applied for admission to the United States under the U.S. refugee program.

Categories of records in the system:

Refugee or Visa-93 application and supporting documentation, including required biographic, biometric, medical, security, and sponsorship information, as well as correspondence related to individual refugee.

Authority for maintenance of the system:

8 U.S.C. 1522(b) (Authorization for Programs for Initial Domestic Resettlement of and Assistance to Refugees); 8 U.S.C. 1157 (Annual Admission of Refugees and Admission of Emergency Situation Refugees); Letter of President Carter of January 13, 1981, 17 Weekly Compilation of Presidential Documents, Pg. 2880 (Refugee Resettlement Grants Program).

Purpose(s):

The information contained in this system of records is collected and maintained by the Office of Admissions, Bureau of Population, Refugees, and Migration, in the administration of its responsibility for the U.S. refugee admissions program.

Routine uses of records maintained in the system, including categories of users and purposes of such uses:

These records may routinely be disclosed:

(1) To employees and contractors of the Department of State, including the Bureau of Population, Refugees and Migration, the Refugee Processing Center (RPC), overseas processing entities under cooperative agreement with the Department of State, and U.S. embassies or consulates, to coordinate and manage the U.S. refugee admissions program. The level of access to records depends on the user's official function.

(2) To the U.S. Citizenship and Immigration Services (USCIS) to determine the eligibility and admissibility of individuals applying for admission to the United States as refugees.

(3) To the International Organization for Migration (IOM) to arrange appropriate transportation to the United States, including departure and transit formalities.

(4) To the United Nations High Commissioner for Refugees (UNHCR) to coordinate resettlement and protection activities.

(5) To members of Congress or other Federal, State, and local government agencies having statutory or other lawful authority, as needed for the formulation, amendment, administration, or enforcement of immigration, nationality, and other laws of the United States.

(6) See also the “Routine Uses” paragraph of the Department's Prefatory Statement published in the Federal Register November 10, 2004.

(7) Additional routine uses include:

a. Biographic, educational, employment, and medical information may be disclosed to voluntary agency sponsors to ensure appropriate resettlement in the United States.

b. Statistical and demographic information from these records may be disclosed to state refugee coordinators, health officials, and interested community organizations.

c. Arrival and address information may be disclosed to consumer reporting agencies (31 U.S.C. 3711), debt collection contractors (31 U.S.C. 3718), and the Department of Treasury (31 U.S.C. 3716) to assist in the collection of indebtedness reassigned to the U.S. Government under the refugee travel loan program administered by the International Organization for Migration (IOM).

Policies and practices for storing, retrieving, accessing, retaining and disposing of records in the system:

Storage:

Electronic media, hard copy.

Retrievability:

Individual name, case number, alien number, and sponsor name.

Safeguards:

All records containing personal information are maintained in secured file cabinets and/or in restricted areas. Access is limited to authorized personnel and contractors of the Department of State, the Refugee Processing Center, overseas processing entities, U.S. Citizenship and Immigration Services, and others specifically authorized under the “Guidelines for the Treatment of Refugee Records Maintained by Overseas Processing Entities,” an appendix to the Department of State's cooperative agreement with overseas processing entities. Access to computerized files is password-protected and controlled by user roles under the direct supervision of the system manager who can monitor and audit trails of access.

Retention and disposal:

Record retention depends upon the outcome of the individual's application for admission. Active case records will be maintained until an application has been placed in inactive status, at which time they will be retired or destroyed in accordance with published records schedules of the Department of State as approved by the National Archives and Records Administration. If individuals have been interviewed by the U.S. Citizenship and Immigration Services (USCIS), their files are transferred to the USCIS and subject to its disposition schedules. More specific information may be obtained by writing to the Director; Office of Information Programs and Services; SA-2; Department of State; 515 22nd Street, NW., Washington, DC 20522-8100.

System manager and address:

Director, Office of Admissions, Bureau of Population, Refugees and Migration; SA-1, Suite L-505; Department of State; 2401 E Street, NW., Washington, DC 20522. At specific overseas locations, the on-site system manager may be the Refugee Coordinator, the Refugee Officer, the consular officer responsible for refugee processing, or the overseas processing entity representative.

Notification procedure:

Individuals who have reason to believe that the Department of State might have records pertaining to themselves should write to the Director; Office of Information Programs and Services; SA-2; Department of State; 515 22nd Street, NW., Washington, DC 20522-8100. The individual must specify that he/she wishes the Refugee Case Records of a specific processing location to be checked. At a minimum, the individual should include: Name (and any aliases); date and place of birth; the approximate date of arrival in the United States; his/her immigration “A” number; current mailing address and zip code; and signature.

Record access and amendment procedures:

Individuals who wish to gain access to or amend records pertaining to themselves should write to the Director; Office of Information Programs and Services (address above).

Record source categories:

These records contain information obtained primarily from the individual who is the subject of these records, relatives, sponsors, members of Congress, U.S. Government agencies, overseas processing entities, voluntary agencies, international organizations, and local sources at overseas posts.

Systems exempted from certain provisions of the Act:

Certain records within this system of records are exempted from 5 U.S.C. 552a(c)(3), (d), (e)(10), (e)(4)(G), (H), and (I), and (f). See Department of State Rules published in the Federal Register.

[FR Doc. E7-15689 Filed 8-9-07; 8:45 am]

BILLING CODE 4710-24-P